NUCLEAR REGULATORY COMMISSION

[NRC-2011-0182]

Terrestrial Environmental Studies for Nuclear Power Stations

AGENCY: Nuclear Regulatory Commission.

ACTION: Draft regulatory guide; request for comment.

SUMMARY: The U.S. Nuclear Regulatory Commission (NRC or the Commission) is issuing for public comment draft regulatory guide (DG), DG-4016, “Terrestrial Environmental Studies for Nuclear Power Stations.” This guide provides technical guidance that the NRC staff considers acceptable for terrestrial environmental studies and analyses supporting licensing decisions for nuclear power reactors.

DATES: Submit comments by October 11, 2011. Comments received after this date will be considered if it is practical to do so, but the NRC is able to ensure consideration only for comments received on or before this date. Although a time limit is given, comments and suggestions in connection with items for inclusion in guides currently being developed or improvements in all published guides are encouraged at any time.

ADDRESSES: Please include Docket ID NRC-2011-0182 in the subject line of your comments. Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any one of the following methods:

• Federal Rulemaking Web Site: Go to http://www.regulations.gov and search for documents filed under Docket ID NRC-2011-0182. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

You can access publicly available documents related to this regulatory guide using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The regulatory analysis is available electronically under ADAMS Accession Number ML110130046.

• Federal Rulemaking Web Site: Public comments and supporting materials related to this regulatory guide can be found at http://www.regulations.gov by searching on Docket ID NRC-2011-0182.

Electronic copies of DG-4016 are available through the NRC's public Web site under Draft Regulatory Guides in the “Regulatory Guides” collection of the NRC's Library at http://www.nrc.gov/reading-rm/doc-collections/. Regulatory guides are not copyrighted, and Commission approval is not required to reproduce them.

FOR FURTHER INFORMATION CONTACT: Peyton Doub, U. S. Nuclear Regulatory Commission, Washington, DC 20555-0001, telephone: 301-415-6703, e-mail to Peyton.Doub@nrc.gov.

SUPPLEMENTARY INFORMATION:

I. Introduction

The NRC is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

This guide focuses on terrestrial analyses for licensing new nuclear power stations under the combined licensing process in Title 10 of the Code of Federal Regulations (10 CFR) part 52, “Licenses, Certifications, and Approvals for Nuclear Power Plants” and power reactors under 10 CFR part 50, “Domestic Licensing of Production and Utilization Facilities.” This guide is also useful in identifying the more limited studies and analyses needed for nuclear reactor operating license renewal under 10 CFR Part 54, “Requirements for Renewal of Operating Licenses for Nuclear Power Plants,” and portions may also be relevant to nuclear reactor decommissioning.

Dated at Rockville, Maryland, this 5th day of August, 2011.
For the Nuclear Regulatory Commission.
Edward O'Donnell,
Acting Chief, Regulatory Guide Development Branch, Division of Engineering, Office of Nuclear Regulatory Research.

[FR Doc. 2011-20511 Filed 8-11-11; 8:45 am]

BILLING CODE 7590-01-P